DEPARTMENT OF AGRICULTURE

Animal and Plant Health Inspection Service

[Docket No. APHIS-2007-0138]

Notice of Request for Approval of an Information Collection; Customer/Stakeholder Satisfaction Surveys

AGENCY: Animal and Plant Health Inspection Service, USDA.

ACTION: New information collection; comment request.

SUMMARY: In accordance with the Paperwork Reduction Act of 1995, this notice announces the Animal and Plant Health Inspection Service's intention to initiate new information collection activities, to conduct surveys of customer/stakeholder satisfaction for both the National Animal Health Monitoring System and the National Veterinary Services Laboratories.

DATES: We will consider all comments that we receive on or before February 11, 2008.

ADDRESSES: You may submit comments by either of the following methods: • Federal eRulemaking Portal: Go to http://www.regulations.gov, select “Animal and Plant Health Inspection Service” from the agency drop-down menu, then click “Submit.” In the Docket ID column, select APHIS-2007-0138 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0138, Regulatory Analysis and Development, PPD, APHIS, Station 3A-03.8, 4700 River Road Unit 118, Riverdale, MD 20737-1238. Please state that your comment refers to Docket No. APHIS-2007-0138.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Customer/Stakeholder Satisfaction Surveys, contact Mrs. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS Information Collection Coordinator, at (301) 734-7477.

SUPPLEMENTARY INFORMATION: Title: Customer/Stakeholder Satisfaction Surveys for the National Animal Health Monitoring System and the National Veterinary Services Laboratories.

OMB Number: 0579-XXXX.

Type of Request: Approval of a new information collection.

Abstract: The United States Department of Agriculture is responsible for protecting the health of our Nation's livestock, poultry, and aquaculture populations by preventing the introduction and interstate spread of serious diseases and pests of livestock and for eradicating such diseases from the United States when feasible.

In connection with this mission, the Animal and Plant Health Inspection Service (APHIS) operates the National Animal Health Monitoring System (NAHMS), which collects, on a national basis, statistically valid and scientifically sound data on the prevalence and economic importance of livestock, poultry, and aquaculture disease risk factors.

NAHMS national studies have evolved into a collaborative industry and government initiative to help determine the most effective means of preventing and controlling diseases of livestock, poultry, and aquaculture. APHIS is the only agency responsible for collecting national data on livestock, poultry, and aquaculture health. Participation in any NAHMS study (including these surveys) is voluntary, and all data are confidential.

The National Veterinary Services Laboratories (NVSL) assists the NAHMS by providing testing services for many of the NAHMS projects. Primary functions of the NVSL also include providing diagnostic support for domestic diseases, potential foreign animal diseases, import/export programs, disease surveillance, and disease eradication efforts. The efforts of the NVSL are an essential part of preventing and controlling diseases of livestock, poultry, and aquaculture.

Information from the NAHMS studies is disseminated to and used by producers, animal health officials, private practitioners, animal industry groups, policy makers, public health officials, media, and educational institutions to improve the health and welfare, quality, and marketability of our Nation's livestock, poultry, and aquaculture. NAHMS staff also produces the U.S. Animal Health Report, which is an annual publication describing the status of animal health in the United States.

The purpose of customer/stakeholder satisfaction surveys is:

• To gather information from producers and other information users on the usefulness of studies and reports,

• To minimize producer burden,

• To increase response rates,

• To improve report quality and relevance to producers' and stakeholders' needs, and

• To improve laboratory performance.

Producers and stakeholders participate in the NAHMS program, utilize information from the NVSL, and/or read NAHMS reports. Therefore, administration of customer/stakeholder satisfaction surveys will benefit the study process and provide NAHMS and NVSL with information to make the programs more effective, with timely and relevant information.

NAHMS staff plans to obtain feedback from the U.S. Animal Health Report Surveys, NAHMS Study Participant Surveys, and NAHMS Descriptive Reports Surveys. NVSL staff plans to obtain feedback from the annual NVSL Performance Surveys. Feedback from these surveys will be used to improve the U.S. Animal Health Report, to improve NAHMS Descriptive Reports, and to evaluate customer/stakeholder satisfaction in an effort to increase participation rates for NAHMS studies. The NVSL surveys will help monitor the NVSL's performance.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of burden on the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.267714 hours per response.

Respondents: Livestock, poultry, and catfish producers; information users; NAHMS Descriptive Report Recipients; Animal Health Report recipients; practicing veterinarians; animal importers/exporters; State and independent laboratories.

Estimated annual number of respondents: 35,700.

Estimated annual number of responses per respondent: 0.2585434.

Estimated annual number of responses: 9,230.

Estimated total annual burden on respondents: 2,471 hours. (Due to averaging, the total annual burden hours may not equal the product of the annual number of responses multiplied by the reporting burden per response.)

All responses to this notice will be summarized and included in the request for OMB approval. All comments will also become a matter of public record.

Done in Washington, DC, this 7th day of December 2007.
Kevin Shea,
Acting Administrator, Animal and Plant Health Inspection Service.

[FR Doc. E7-24171 Filed 12-12-07; 8:45 am]

BILLING CODE 3410-34-P